NATIONAL MEDIATION BOARD

29 CFR Part 1210

Administration of National Railroad Adjustment Board Functions and Activities—Fee Proposal

AGENCY: National Mediation Board.

ACTION: Proposed rule; notice of meeting.

SUMMARY: The National Mediation Board (NMB) extends an invitation to interested parties to attend an open meeting with the Board and its staff on Tuesday, January 11, 2005. The Board meeting will be held from 9 a.m. until 12 noon. The meeting will be held in the Margaret A. Browning Hearing Room (Room 11000), National Labor Relations Board, 1099 14th St., NW., Washington, DC 20570. During the public meeting, the NMB invites interested persons to share their views on the possible establishment of a fee schedule by the NMB for the provision of certain arbitration services, primarily affecting minor labor disputes in the rail industry.

DATES: The meeting will be held on January 11, 2005, from 9 a.m. to 12 noon. Due to time and seating considerations, individuals desiring to attend the meeting, or to make a presentation before the Board, must notify the NMB staff, in writing, no later than 4 p.m. on Tuesday, January 4, 2005.

ADDRESSES: The public meeting will be held in the Margaret A. Browning Hearing Room, (Room 11000), National Labor Relations Board, 1099 14th St., NW., Washington, DC 20570. Requests to attend the meetings must be in writing, and must be addressed to Mr. Roland Watkins, Director of Arbitration/NRAB Administrator, National Mediation Board, 1301 K Street, NW., Suite 250—East, Washington, DC 20005. Attn: NMB Docket No. 2003-01. Written requests may be sent electronically to the following e-mail address: arb@nmb.gov.

FOR FURTHER INFORMATION CONTACT: Mr. Roland Watkins, Director of Arbitration/NRAB Administrator, National Mediation Board (telephone 202-692-5057).

SUPPLEMENTARY INFORMATION: The National Mediation Board will hold an open public meeting on Tuesday, January 11, 2005, from 9 a.m. until 12 noon. The purpose of the public meeting will be to solicit the views of interested persons concerning the possible establishment of a fee schedule by the NMB for the provision of certain arbitration services, primarily affecting minor labor disputes in the rail industry.

On Monday, August 9, 2004, the NMB published a Notice of Proposed Rulemaking (NPRM) (69 FR 48177), proposing among other things, the establishment of certain fees for providing arbitration services. See 69 FR 48182-48183. These fees are proposed to be codified at 29 CFR, 1210.12(b). Because of the public interest that was generated by the Board's fee proposal, and because the NPRM provided the first opportunity for direct public comment on the specific contents of a fee proposal, the NMB is providing another opportunity for interested persons to provide their views to the Board on this important matter.

Individuals desiring to attend the meeting must notify the NMB staff, in writing, at the above listed physical or e-mail address, by the deadline noted. If an individual desires to make a presentation to the Board at the meeting, he or she is required to submit a brief outline of the presentation when making the request. In addition, a full written statement must be submitted no later than 4 p.m. on Tuesday, January 4, 2005. In lieu of making an oral presentation, individuals may submit a written statement for the record.

To attend the meeting, all potential attendees must include in their request: (1) Their full name and (2) organizational affiliation (if any). Attendees are also reminded to bring a photo identification card with them to the public meeting in order to gain admittance to the building. Due to time and potential space limitations in the meeting room, the NMB will notify individuals of their attendance and/or speaking states. (i.e., preliminary time for their presentation) prior to the meeting. Time allocations for oral presentations will depend upon the number of individuals who desire to make presentations to the Board. Individuals should be prepared to summarize their written statements at the meeting.

Agenda: The meeting will be limited to issues relating to the NMB's proposal regarding the establishment of a fee schedule for certain arbitration services as contained at proposed 29 CFR 1210.12 “Fees”, appearing in the Federal Register on August 9, 2004, at 69 FR 48182-48183. A copy of the full NPRM, including the proposed section on “Fees”, may be obtained from the NMB's Web site at http://www.nmb.gov/arbitration/arb-rulemaking.html.

Dated: December 16, 2004.
Roland Watkins,
National Railroad Adjustment Board Administrator.

[FR Doc. 04-27861 Filed 12-20-04; 8:45 am]

BILLING CODE 7550-01-M